DEPARTMENT OF DEFENSE

Department of the Air Force

Notice of Intent To Prepare an Environmental Impact Statement for the Special Use Airspace Optimization Project, Holloman Air Force Base, New Mexico

AGENCY: Department of the Air Force, DOD.

ACTION: Notice of intent.

The U.S. Air Force is issuing this notice of intent (NOI) (40 CFR 1508.22) to advise the public of its intent to prepare an Environmental Impact Statement (EIS) to assess the potential environmental consequences associated with modifying existing or creating new special use airspace (SUA), and relinquishing to the National Airspace System (NAS) SUA incompatible for today's Air Force mission. SUA used by Holloman Air Force Base (AFB) dates back more than 30 years ago and was designed to support different aircraft with significantly different mission profiles and performance characteristics than the current aircraft (F-16C/D) flown at Holloman AFB. Optimizing Air Force controlled SUA would provide the scheduling flexibility necessary to conduct multiple, simultaneous training missions needed by the aircrews stationed at Holloman AFB, New Mexico to meet the pilot initial qualification training requirements. Two action alternatives identified as meeting the purpose and need for this proposed action will be analyzed in the EIS. Alternative 1 would reconfigure and expand the existing Talon Military Operations Area (MOA) and associated Air Traffic Control Assigned Airspace (ATCAA). Alternative 2 would modify the existing Cato/Smitty MOA/ATCAA and create a new Lobos MOA to the west of White Sands Missile Range. Each alternative includes aircraft activity down to 500 feet above ground level (AGL), supersonic activity at or above 30,000 feet mean sea level (MSL), and the use of defensive chaff and flares within certain parameters. The resulting SUA would provide adequate volumes of SUA to allow for more efficient and simultaneous training activities that currently occur disjointedly throughout several airspace areas in New Mexico and return sub-optimal airspace to the NAS for use by the public.

A No Action Alternative will be included in the EIS, whereby aircrews at Holloman AFB would continue to utilize existing SUA as it is currently configured. Aircrews would continue to be limited to SUA that was developed for legacy aircraft more than 30 years ago and does not have the optimum volume, proximity to the installation, availability, or other attributes to efficiently support the Holloman AFB flying mission. The analysis of the No Action Alternative will provide a benchmark to enable Air Force decision-makers to compare the magnitude of the environmental effects of the proposed action.

Scoping and Agency Coordination: To effectively define the full range of issues and alternatives to be evaluated in the EIS, the Air Force will determine the scope of the analysis by soliciting comments from interested local, state and federal elected officials and agencies, as well as interested members of the public and others. The public and interested parties can submit their comments through the project Web site www.HollomanAFBAirspaceEIS.com, by mailing comments to Holloman Airspace EIS, c/o Cardno, 501 Butler Farm Rd., Suite H, Hampton, VA 23666, or by attending one of the public meetings. The Air Force will also pursue government-to-government consultations with interested Native American tribes and pueblos.

Public Meeting Dates and Locations: Public scoping meetings will be held in Carlsbad, Truth or Consequences and Las Cruces, New Mexico at the following dates, times, and locations:

Tuesday, September 12, 2017, 6:00 p.m. to 8:00 p.m., Carlsbad Public Library, 101 S. Halagueno Street, Carlsbad, NM 88220.

Wednesday, September 13, 2017, 6:00 p.m. to 8:00 p.m., Truth or Consequences Civic Center, Ralph Edwards Auditorium, 400 W. 4th Avenue, Truth or Consequences, NM 87901.

Thursday, September 14, 2017, 6:00 p.m. to 8:00 p.m., Hilton Garden Inn, 2550 S. Don Roser Dr., Las Cruces, NM 88001.

Although comments can be submitted to the Air Force any time during the EIS process, scoping comments are requested by September 25, 2017 to ensure full consideration in the draft EIS.

SUPPLEMENTARY INFORMATION: The Air Force has preliminarily identified two broad alternatives to optimize existing training airspace at Holloman AFB. While the alternatives are independent of each other, the decision-maker may choose to implement one, both, or none of the alternatives based on the analysis provided in the EIS.

Alternative 1 would evaluate an expansion to the east of Holloman AFB of the Talon MOA and associated ATCAA. The Talon MOA is located in the vicinity of Carlsbad, New Mexico and covers approximately 1,848 square nautical miles. Under this alternative, the dimensions of the existing MOA/ATCAA would be expanded approximately 1,375 square nautical miles generally to the east. The floor of the MOA would be raised to 500 feet AGL from the current 300 feet AGL. Training within the expanded MOA/ATCAA would include supersonic flight at or above 30,000 feet and use of chaff and flares above 2,000 feet AGL.

Alternative 2 would evaluate the area west of Holloman AFB and White Sands Missile Range for reconfiguring and expanding the Cato/Smitty MOA and associated ATCAA and/or creating a new Lobos MOA/ATCAA. The Cato/Smitty MOA is located in the vicinity of Truth or Consequences, New Mexico and covers approximately 2,680 square nautical miles. Under this alternative, the dimensions of the Cato/Smitty MOA would be reconfigured and expanded to the southeast. Reconfiguring this MOA would result in returning the northern portion of the existing Cato/Smitty MOA back to the NAS. The new Lobos MOA/ATCAA would be created south of the reconfigured Cato/Smitty MOA and west of White Sands Missile Range. The proposed floor of the reconfigured Cato/Smitty MOA and the new Lobos MOA would be 500 feet AGL (2,000 feet AGL over designated wilderness areas as currently observed). Training within the reconfigured and expanded Cato/Smitty and new Lobos MOAs would include supersonic flight above 30,000 feet and use of chaff and flares above 2,000 feet AGL.

FOR FURTHER INFORMATION CONTACT: For questions regarding the proposed action, scoping, and EIS development, contact Holloman AFB Public Affairs Office, at (575) 572-7383 or at: 49WG.PAOffice@us.af.mil.

Henry Williams,
Acting Air Force Federal Register Liaison Officer.

[FR Doc. 2017-18069 Filed 8-24-17; 8:45 am]

BILLING CODE 5001-10-P